DEPARTMENT OF HOMELAND SECURITY

Federal Emergency Management Agency

Notice of Maximum Amount of Assistance Under the Individuals and Households Program, Notice of Maximum Amount of Repair Assistance, and Notice of Maximum Amount of Replacement Assistance

AGENCY: Federal Emergency Management Agency, Department of Homeland Security.

ACTION: Notice.

SUMMARY: FEMA gives notice of the maximum amounts for assistance under the Individuals and Households Program for emergencies and major disasters declared on or after October 1, 2006.

DATES: Effective Date: October 1, 2006, and applies to emergencies and major disasters declared on or after October 1, 2006.

FOR FURTHER INFORMATION CONTACT: Berl Jones, Recovery Division, Federal Emergency Management Agency, Washington, DC 20472, (202) 646-4235.

SUPPLEMENTARY INFORMATION: Section 408 of the Robert T. Stafford Disaster Relief and Emergency Assistance Act (the Act), 42 U.S.C. 5174, prescribes that FEMA must annually adjust the maximum amounts for assistance provided under the Individuals and Households (IHP) Program. FEMA gives notice that the maximum amount of IHP financial assistance provided to an individual or household under section 408 of the Act with respect to any single emergency or major disaster is $28,200. The maximum amount of Repair Assistance is $5,600, and the maximum amount of Replacement Assistance is $11,300. The increases in award amounts as stated above are for any single emergency or major disaster declared on or after October 1, 2006.

FEMA bases the adjustments on an increase in the Consumer Price Index for All Urban Consumers of 3.8 percent for the 12-month period ended in August 2006. The Bureau of Labor Statistics of the U.S. Department of Labor released the information on September 15, 2006.

(Catalog of Federal Domestic Assistance No. 97.048, Individuals and Households—Housing; 97.049 Individuals and Households—Disaster Housing Operations; 97.050, Individuals and Households—Other Needs)

R. David Paulison,
Under Secretary for Federal Emergency Management and Director of FEMA.

[FR Doc. E6-16658 Filed 10-6-06; 8:45 am]

BILLING CODE 9110-10-P